FEDERAL ELECTION COMMISSION

Sunshine Act Meeting

AGENCY: Federal Election Commission

DATE AND TIME: Tuesday July 22, 2014 at 10:00 a.m.

PLACE: 999 E Street NW., Washington, DC

STATUS: This meeting will be closed to the public.

Federal Register Notice of Previous Announcement—79 FR 42009

CHANGE IN THE MEETING: This meeting will be continued at the conclusion of the open meeting on August 14, 2014.

* * * * *

PERSON TO CONTACT FOR INFORMATION: Judith Ingram, Press Officer, Telephone: (202) 694-1220.

Shelley E. Garr,
Deputy Secretary of the Commission.

[FR Doc. 2014-19187 Filed 8-8-14; 4:15 pm]

BILLING CODE 6715-01-P